DEPARTMENT OF HEALTH AND HUMAN SERVICES

Food and Drug Administration

[Docket No. 01P-0150]

Salad Dressing Deviating From Identity Standard; Temporary Permit for Market Testing

AGENCY: Food and Drug Administration, HHS.

ACTION: Notice.

SUMMARY: The Food and Drug Administration (FDA) is announcing that a temporary permit has been issued to Kraft Foods, Inc., to market test a product designated as “salad dressing” that deviates from the U.S. standard of identity for salad dressing. The purpose of the temporary permit is to allow the applicant to measure consumer acceptance of the product, identify mass production problems, and assess commercial feasibility, in support of a petition to amend the standard of identity for salad dressing.

DATES: This permit is effective for 15 months, beginning on the date the food is introduced or caused to be introduced into interstate commerce, but not later than July 11, 2001.

FOR FURTHER INFORMATION CONTACT: Loretta A. Carey, Center for Food Safety and Applied Nutrition (HFS-822), Food and Drug Administration, 200 C St. SW., Washington, DC 20204, 202-205-4168.

SUPPLEMENTARY INFORMATION: In accordance with 21 CFR 130.17 concerning temporary permits to facilitate market testing of foods deviating from the requirements of the standards of identity issued under section 401 of the Federal Food, Drug, and Cosmetic Act (21 U.S.C. 341), FDA is giving notice that a temporary permit has been issued to Kraft Foods, Inc., Three Lakes Dr., Northfield, IL 60093-2753.

The permit covers limited interstate marketing tests of products identified as “salad dressing” that deviate from the U.S. standard of identity for salad dressing (21 CFR 169.150) by adding potassium sorbate, which is not permitted under the current standard, and by reducing the amount of egg 2 percent below the amount required by the current standard. The test product meets all the requirements of the standard with the exception of the reduced amount of egg level in the product and the addition of potassium sorbate. Because test preferences vary by area, along with social and environmental differences, the purpose of this permit is to test the product throughout the United States.

Under this temporary permit, the salad dressing will be test marketed as “salad dressing.”

This permit provides for the temporary marketing of 150 million pounds of product during the entire 15-month period. The test product will be manufactured by Kraft Foods, Inc., at 2340 Forest Lane, Garland, TX 75040; 1701 West Bradley Ave., Champaign, IL 61821; and 7352 Industrial Blvd., Allentown, PA 18106. The product will be distributed throughout the United States.

The information panel of the labels will bear nutrition labeling in accordance with 21 CFR 101.9. Each of the ingredients used in the food must be declared on the labels as required by the applicable sections of 21 CFR part 101. This permit is effective for 15 months, beginning on the date the food is introduced or caused to be introduced into interstate commerce, but not later than July 11, 2001.

Dated: April 3, 2001.
Christine J. Lewis,
Director, Office of Nutritional Products Labeling and Dietary Supplements, Center for Food Safety and Applied Nutrition.

[FR Doc. 01-8978 Filed 4-11-01; 8:45 am]

BILLING CODE 4160-01-S